DEPARTMENT OF THE INTERIOR

National Park Service

[NPS-WASO-NRNHL-21298: PPWOCRADI0, PCU00RP14.R50000]

National Register of Historic Places; Notification of Pending Nominations and Related Actions

AGENCY: National Park Service, Interior.

ACTION: Notice.

SUMMARY: The National Park Service is soliciting comments on the significance of properties nominated before June 11, 2016, for listing or related actions in the National Register of Historic Places.

DATES: Comments should be submitted by July 12, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before June 11, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALASKA

Ketchikan Gateway Borough-Census Area

Downtown Ketchikan Historic District, Front, Main, Mission, Dock & Mill Sts., Ketchikan, 16000467

CALIFORNIA

Fresno County

Big Creek Hydroelectric System Historic District, Roughly from Big Creek to Northern Los Angeles, Big Creek, 16000468

Madera County

Devils Postpile Cabin Site, Minaret Summit Rd., Mammoth Lakes, 16000473

COLORADO

Mesa County

Department of Energy Grand Junction Office, 2591 Legacy Way, Grand Junction, 16000470

TENNESSEE

Davidson County

Geist, John, and Sons, Blacksmith Shop and House (Boundary Decrease), 311 & 313 Jefferson St., Nashville 16000471

House of David Recording Studio Complex, (Music Industry Resources, Nashville, Tennessee MPS), 1205-1207 16th Ave. S., Nashville, 16000472

WASHINGTON

King County

Seattle Art Museum, 1400 E. Prospect St., Seattle, 16000474

WISCONSIN

Manitowoc County

Mirro Aluminum Company Plant No. 3, 2402 Franklin St., Manitowac, 16000475

Milwaukee County

Mansfield, George C., Company Building, 1300 N. 4th St., Milwaukee, 16000476

A request for removal has been received for the following resources:

LOUISIANA

Acadia Parish

Lewis & Taylor Lumberyard Office, 403 E. Louisiana Ave., Rayne, 95000812

Ascension Parish

Kraemer House, Off US 61, Prairieville, 84001250

Avoyelles Parish

Clarendon Plantation House, LA 29, Evergreen, 85000970

Calcasieu Parish

Arcade Theater, 822 Ryan St., Lake Charles, 78001420

Authority: 60.13 of 36 CFR part 60.

Dated: June 14, 2016.
Christopher J. Hetzel,
Acting Chief, National Register of Historic Places/National Historic Landmarks Program.

[FR Doc. 2016-15083 Filed 6-24-16; 8:45 am]

BILLING CODE 4312-51-P